CONSUMER PRODUCT SAFETY COMMISSION

16 CFR Part 1420

[CPSC Docket No. 2017-0032]

Standard for All-Terrain Vehicles

AGENCY: Consumer Product Safety Commission.

ACTION: Notice of proposed rulemaking.

SUMMARY: The Consumer Product Safety Improvement Act of 2008 (CPSIA) required the Consumer Product Safety Commission (CPSC or the Commission) to publish, as a mandatory consumer product safety standard, the American National Standard for Four-Wheel All-Terrain Vehicles Equipment Configuration, and Performance Requirements developed by the Specialty Vehicle Institute of America (ANSI/SVIA 1-2007). CPSC published that mandatory consumer product safety standard on November 14, 2008. Since then, the Commission has revised this mandatory standard twice in accordance with the revision procedures set out in the CPSIA. ANSI/SVIA has again revised its standard. In accordance with CPSIA, CPSC proposes to amend the Commission's mandatory ATV standard to reference the 2023 edition of the ANSI/SVIA standard.

DATES: Submit comments by September 25, 2023.

ADDRESSES: Comments related to the Paperwork Reduction Act aspects of the proposed rule's information collection requirements should be directed to the Office of Information and Regulatory Affairs, OMB, Attn: CPSC Desk Officer, FAX: 202-395-6974, or emailed to: oira_submission@omb.eop.gov. In addition, written comments that are sent to OMB also should be submitted electronically at www.regulations.gov, under Docket No. CPSC-2017-0032.

Comments related to the proposed rule, identified by Docket No. CPSC-2017-0032, may be submitted electronically or in writing by any of the following methods:

Electronic Submissions: Submit electronic comments to the Federal eRulemaking Portal at http://www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments using the Federal eRulemaking Portal. You may, however, submit comments by mail, hand delivery, or courier to: Office of the Secretary, Consumer Product Safety Commission, 4330 East West Highway, Bethesda, MD 20814; telephone: (301) 504-7479.

Instructions: All submissions must include the agency name and docket number. CPSC may post all comments without change, including any personal identifiers, contact information, or other personal information provided to www.regulations.gov. If you wish to submit confidential business information, trade secret information, or other sensitive or protected information that you do not want to be available to the public, you may submit such comments by mail, hand delivery, or courier, or you may email them to: cpsc-os@cpsc.gov.

Docket: For access to the docket to read background documents or comments received, go to: http://www.regulations.gov, and insert the docket number, CPSC-2017-0032, into the “Search” box, and follow the prompts.

FOR FURTHER INFORMATION CONTACT: Han Lim, Project Manager, Directorate for Engineering Sciences, U.S. Consumer Product Safety Commission, 5 Research Place, Rockville, MD 20850; telephone: (301) 987-2327; email: HLiml@cpsc.gov.

SUPPLEMENTARY INFORMATION:

I. Background and Statutory Authority

CPSIA directed the Commission to “publish in the Federal Register as a mandatory consumer product safety standard the American National Standard for Four Wheel All-Terrain Vehicles Equipment Configuration, and Performance Requirements developed by the Specialty Vehicle Institute of America (American National Standard ANSI/SVIA 1-2007).” 15 U.S.C. 2089(a)(1). Accordingly, on November 14, 2008, CPSC published a final rule mandating ANSI/SVIA 1-2007 as a consumer product safety standard. 73 FR 67385. The final rule was codified at 16 CFR part 1420.

The Commission has revised the mandatory standard twice in accordance with the revision procedures set out in CPSIA and incorporated into section 42 of the Consumer Product Safety Act, 15 U.S.C. 2089(b). On February 29, 2012, the Commission published a final rule that amended the Commission's ATV standard to reference the 2010 edition of the ANSI/SVIA standard. 77 FR 12197. Then on February 27, 2018, the Commission published a final rule that amended the mandatory ATV standard to reference the 2017 edition of the ANSI/SVIA standard. 83 FR 8336. On March 21, 2023, ANSI notified the Commission that the 2017 edition of the ANSI/SVIA standard had been revised.

Section 42(b) of the CPSA provides that, if ANSI/SVIA 1-2007 is revised, ANSI must notify the Commission of the revision. The Commission has 120 days after it receives that notification to issue a notice of proposed rulemaking to amend the Commission's mandatory ATV standard “to include any such revision that the Commission determines is reasonably related to the safe performance of [ATVs] and notify the Institute of any provision it has determined not to be so related.” 15 U.S.C. 2089(b)(1) and (2). Thereafter, the Commission has 180 days after publication of the proposed amendment to publish a final rule to revise the ATV standard. Id.

II. Evaluation of ANSI/SVIA 1-2023

ANSI/SVIA 1-2023 contains requirements and test methods relating to ATVs, including vehicle equipment and configuration, vehicle speed capability, brake performance, pitch stability, electromagnetic compatibility, and sound level limits. The staff memorandum at Tab A of the July XX, 2023 Staff Briefing Package: Notice of Proposed Rulemaking (NPR) to Amend the All-Terrain Vehicle (ATV) Standard (Staff's NPR Briefing Package) ¹ reviews in detail the changes from the 2017 edition of the ANSI/SVIA standard, which is currently the mandated consumer product safety standard for ATVs, to the 2023 edition. The following revisions are particularly significant:

¹ Available at https://www.cpsc.gov/s3fs-public/Federal-Register-Notice-Amendment-to-Standard-for-All-Terrain-Vehicles-Notice-of-Proposed-Rulemaking.pdf?VersionId=bcc3JxBvevwLkKnSHIeL90UVi4pIq3lB.

Requirements for hot surfaces;

Requirements for fuel system components;

Removal of the maximum recommended tire pressure of 69 kPa (10 psi); and

Requirement of an effective date “beginning with 2026 model year vehicles” within the scope of the standard;

Removal of requirement that paper user manuals be provided with all ATVs.

A. Hot Surfaces Requirements

ANSI/SVIA 1-2023 Section 12.1, Touch Points, specifies performance requirements that limit maximum surface temperatures for various touch points that, if too hot, may harm vehicle occupants. Without the proper surface temperature limits on ATV surfaces, consumers may experience contact burns. In addition, excessive exhaust temperatures can melt nearby combustible plastic components, which may pose a risk of fire.

ANSI/SVIA 1-2023 sets out performance tests to evaluate whether surface temperatures for various touch points are within specified limits. In September 2018, CPSC recommended that SVIA add requirements to address burn hazards to users of ATVs. CPSC staff subsequently worked with SVIA to develop standards for maximum surface temperatures on ATVs to address the risk of burns associated with ATVs. The Commission preliminarily concludes that testing the temperature of specified ATV touch points as provided by ANSI-SVIA 1-2023 is reasonably related to the safe performance of ATVs.

B. Fuel System Requirements

The 2017 edition of the ANSI/SVIA standard does not contain performance requirements to address fire hazards from fuel leaks. ANSI/SVIA 1-2023 adds multiple performance requirements to mitigate the risk of fuel leaks and fire hazards. These performance requirements apply to various aspects of an ATV's fuel system that may contribute to fire hazards.

Most of the requirements are based on other similar standards that each address different aspects of the fuel system. For example, the fuel hose tensile test is similar to the test procedure from ANSI/OPEI B71.10-2018 Standard for Off-Road Ground-Supported Outdoor Power Equipment—Gasoline Fuel Systems—Safety Specifications. There are two options to test for fuel tank structural integrity. One of these options to evaluate the structural integrity of the fuel tank for resistance to impact forces is based on the SAE J288 standard for snowmobile fuel tanks. The other option is to follow the SVIA-1 test method involving striking the tank with a metal sphere. The SVIA-1 committee adapted various fuel system component requirements from other standards to be applicable to ATVs.

These fuel system performance requirements are organized into four general categories:

Fuel Tank Structural Integrity

• Section 13.3 Fuel Tank Immersion Leak Test

• Section 13.5 Fuel Tank Cyclic Pressure Integrity Test

• Section 13.6 Fuel Soak Test for Plastic Tanks and Assemblies With Grommets and Seals

• Sections 13.8 and 13.15 Fuel Tank Leak Mitigation from Rollover or Tip over

Fuel Hoses

• 13.9 Fuel Line Integrity

• 13.10 Fuel Line Connection Tensile Test

Fuel Filter and Shut-Off Valve

• Section 13.4 Fuel Filter and Shut-off Valve Immersion Test

Elastomeric Component Durability

• Section 13.11 Elastomeric exposure to fuel

• Section 13.12 Ozone resistance

• Section 13.13 UV resistance

• Section 13.14 Corrosion resistance

CPSC staff is aware of three fuel tank recalls, two fuel hose recalls, and one fuel filter-related recall associated with ATVs.² A fuel leak occurs when there is a breach in the fuel system. A fuel breach can originate from multiple locations, such as the fuel hose to nozzle connections, fuel tank seam split or crack, cracked fuel filter, cracked fuel hose, etc. A fuel leak from any of the above components near a hot engine and/or exhaust components can increase the risk of fire.

² Voluntary Standards Meeting with Recreational Off-Highway Institute (ROHVA), Specialty Vehicle Institute of America (SVIA), and Outdoor Power Equipment Institute (OPEI) to discuss Off-Highway Vehicle Fire and Debris Penetration Hazards, September 19, 2018. Weblink to Meeting Log: https://www.cpsc.gov/s3fs-public/2018-09-19 Voluntary Standards Meeting on Off-Highway Vehicles.pdf?GhlbD87TF1W8m6F9B10g2CpZTCNzSrjP. See pages 8 through 10 for the fuel-related recalls.

Section 13 contains test requirements that are (a) one-time design qualification tests and (b) tests that are required of every fuel system for new production ATVs. Most of the requirements are one-time design qualification tests. The one-time qualification test requires manufacturers to conduct a single test that proves the design of a subsystem component such as the fuel tank meets all the applicable requirements. The water immersion leak test is required for all fuel tank units that will be installed on a manufacturer's ATV production line. Appendix A of the Staff's NPR Briefing Package lists all the tests contained in Section 13 and distinguishes which tests are one-time design qualification type of tests and which tests are required for every ATV.

Section 13.3 is a leak test that requires every ATV fuel tank to be tested for leaks. The production fuel tank, fitted with all the fuel system components, is pressurized with compressed air and then submerged in water. Failures are detected by visual inspection of bubbles. This leak test is repeated during the course of various other tests after subjecting the fuel tank and/or fuel tank components to impact loading, pressure cycling, and elevated temperature conditioning to ensure no stress cracks or fuel tank breaches result from those three physical tests. Section 13.4 provides leak tests for individual components such as fuel filters and fuel shut-off valves that are similar to the leak tests Section 13.3 establishes for fuel tanks. Section 13.4 sets out a water immersion test to ensure these components are leak-free. CPSC staff has advised the Commission that these performance tests to detect leaks from fuel tanks, fuel filters, and fuel shut-off valves are effective in mitigating the risk of fuel leaks and can reduce the risk of fire hazards.

Fuel tanks are subjected to pressure cycling due to the varying amounts of fuel in the tank and changing temperatures. To simulate the effects of pressure cycling, a performance test described in section 13.5 (Fuel Tank Cyclic Pressure Integrity Test) applies a cyclic air pressure up to 4 psi for 10,000 cycles. This is a one-time design qualification test. Upon completion of the 10,000 pressure cycles, a leak test per the section 13.3 test procedure is conducted. CPSC staff assesses that the test procedure described in section 13.5 adequately evaluates the structural integrity of ATV fuel tanks when subjected to the repeated, fatigue type of pressure test.

The elevated temperature test set out in Section 13.6 evaluates structural damage that may occur when a fuel tank is subjected to elevated temperature scenarios. This performance test requires a sample fuel tank filled with gasoline to be kept in a test chamber at a constant elevated temperature of 60 °C (140 °F) for 480 hours. This requirement would detect stress cracks, seam splits, or other structural damage that can cause fuel to leak. At the conclusion of this 480-hour high temperature exposure test, the test sample fuel tank is emptied and then subjected to the Section 13.3 leak test to ensure no stress cracks form during the long period of elevated temperature. CPSC staff assesses that this performance test is effective in evaluating the structural integrity of ATV fuel tanks when subjected to extended elevated temperature environments. The Commission preliminarily concludes that this performance test is reasonably related to the safe performance of ATVs.

In a vehicle fuel system, components such as fuel pumps, shutoff valves, and fuel filters are joined with multilayered rubber hoses that may be connected in various ways such as barbed friction fittings, hose clamps, or quick snap-on connect mechanisms. Sections 13.9 and 13.10 contain tensile test requirements to ensure hose connections do not leak. Sample hose connections are subjected to a 30 lb tensile (pull) force to ensure fuel hoses do not slip off. Staff assesses that these performance tests are effective in mitigating the risk of fuel hoses slipping off and therefore this testing reduces the risk of fire hazards. The Commission preliminarily concludes that that these tensile test requirements are reasonably related to the safe performance of ATVs.

ATVs are driven in a wide range of environments and conditions, from extreme cold, snowy conditions to extreme hot weather. Plastic fuel tanks are susceptible to expansion and contraction due to temperature fluctuations and variations in operating conditions and over time plastic fuel tanks may develop stress cracks. Unprotected portions of the fuel tank can be struck by debris, such as rocks, which can compromise the structural integrity of the tank. Section 13.7 provides that ATV fuel tanks be subjected to a qualification impact test that evaluates the structural integrity of the fuel tank after it is either struck by a steel ball (SVIA test option) or dropped from 1.25 meters onto a concrete surface (SAE J288—Snowmobile Fuel Tank Standard Test method option). The test option is decided by the manufacturer. Prior to the impact, the fuel tanks are subjected to a low temperature soak (−30 °C for the SVIA test option or −40 °C for the SAE J288 test option). CPSC staff assesses that this performance test is effective in evaluating the structural integrity of ATV fuel tanks when subjected to impact forces. The Commission preliminarily concludes that that these tensile test requirements are reasonably related to the safe performance of ATVs.

Section 13.8 (Fuel Tank Protection Envelope Analysis) requires visual, computer aided design (CAD), or similar inspection to ensure neighboring components do not inadvertently compromise the structural integrity of fuel system components such as the fuel tank, fuel hoses, etc. in the event of a tip-over or roll-over. The procedure is a visual inspection or spatial analysis done with CAD, which CPSC staff consider useful to aid in addressing potential structural integrity issues of ATV fuel systems. The Commission preliminarily concludes that that these inspection requirements are reasonably related to the safe performance of ATVs.

The performance test set out in Section 13.15 evaluates the effectiveness of the fuel system to limit the amount of fuel leakage (and associated risk of fire and/or explosion) in a rollover scenario where the ATV and its fuel tank are not in their normal upright positions. A test sample fuel tank filled with water is flipped upside down (180° from its normal upright position) for 10 minutes and the maximum allowable volume of water that can leak within that period is 300 m. On average, the allowable leak rate is 30 mL per minute. Gasoline evaporates relatively quickly when exposed to air. This rate is consistent with the requirement from the 2012 edition of the golf car standard, ANSI/ILTVA (International Light Transportation Vehicle Association) Z130.1. CPSC staff assesses that this performance test is effective in evaluating the rollover vent valve's ability to limit the amount of fuel leakage if the ATV fuel tank is involved in a rollover.

Components with elastomeric parts such as fuel filters and fuel shut off valves are susceptible to cracking, corrosion, and/or deterioration when exposed to certain chemical or environmental elements such as ethanol-blended gasolines, ultraviolet (UV) light, and ozone. Elastomeric parts are composed of various rubber-like materials. Sections 13.10 through 13.14 set out the performance tests that expose sample fuel filters and fuel shut off valves to E10 (gasoline blended with 10% ethanol), UV light, and ozone for extended periods. The test components are visually examined for any cracks or signs of deterioration upon the completion of the performance tests. Parts made of fluoroelastomer are exempt, as this material is not susceptible to deterioration due to UV, ozone, or E10 exposures. Fluoroelastomer is a fluorocarbon-based type of synthetic rubber that has chemical corrosion resistant properties that are used for applications such as gaskets, O-rings, and seals. CPSC staff assesses that this performance test is effective in evaluating the corrosion resistance properties of elastomeric parts.

The Commission preliminarily concludes that the fuel system performance requirements in Section 13 of the 2023 edition of the ANSI/SVIA standard are reasonably related to the to the safe performance of ATVs on the basis of staff's assessment that they will reduce the risk of fuel leaks and associated fire and burn hazards due to possible fuel breaches, over pressurizations, fuel spills, and component deterioration.

C. Tire Pressure

The 2007, 2010, and 2017 editions of the SVIA-1 standard defined low-pressure tires as “having a recommended tire pressure of no more than 69 kPa (10 psi)” in section 4.19 Tires. In the 2017 edition, Section 4.19 differentiated between Pneumatic (section 4.19.1) and Non-Pneumatic Tires (NPT) (section 4.19.2) and changed Pneumatic Tire requirements to “Maximum recommended tire pressure of 69kPa (10 psi).” Section 4.19.2 specifies “NPTs vertical stiffness shall be designed to produce a ground pressure of 69kPA (10 psi) or less with the subject vehicle.” In the 2023 edition, the tire pressure value and vertical stiffness equivalent tire pressure value have been deleted.

The 2023 version retains the 4.19 requirement that ATVs be equipped with tires designed for off-highway use on these vehicles and that the tire sidewalls be marked with the recommended tire pressure. In addition, the 2023 version retains the various testing and performance requirements in sections 5 to 9 for speed capability, brakes, and pitch stability.

An ATV manufacturer could design an ATV with a proper suspension and 12 psi tires, and the tires would still be “low pressure” yet conflict with the definition. For that reason, staff does not believe that it is necessary to include a maximum tire pressure of 10 psi in the standard. Since ANSI/SVIA 1-2023 instructs consumers to follow manufacturers' recommendations for tire inflation pressures, either from the markings on the tires or the owners' manuals, CPSC staff assesses that this change to the standard is neutral and is not detrimental to ATV safety. The Commission preliminarily concludes that these inspection requirements are reasonably related to the safe performance of ATVs.

D. Owner's Manual

The 2017 edition of the SVIA-1 standard provides in Section 4.21 that all ATVs shall be provided an owner's manual “in paper form” and adds that the paper manual “may be supplemented at the manufacturer's option in electronic form viewable on a display on the ATV or other device.” The 2023 edition of SVIA-1 removes the phrase “which may be supplemented at the manufacturer's option in electronic form viewable on a display on the ATV or other device” which was added to the 2017 edition. Section 4.21 now states “All ATVs shall be provided with a manual in paper or electronic format at the time of delivery to the first purchaser. All ATVs with printed manuals shall be equipped with a means of carrying the manual that protects it from destructive elements while allowing reasonable access.” Under this standard the manufacturer has the choice of whether to provide electronic or paper manuals. The information required to be provided in the owner's manual includes a dedicated introductory safety section and important safety messages regarding age recommendations, proper operation of the ATV, and training resources. Therefore, CPSC staff believes that paper manuals should remain the default medium for important safety information because in that format the information will be immediately available for consumers. Many consumers are already disinclined to read instruction manuals and requiring them to go through extra steps to access them in electronic format reduces the likelihood that they will do so. Based on the increased risk of consumers not receiving information on the safe use of ATVs if that information is only electronically available, CPSC staff assesses that this change would likely result in a reduction in safety. For that reason, the Commission preliminarily concludes that this provision is not consistent with the safe operation of ATVs and therefore proposes maintaining in effect the current regulatory provision incorporating the 2017 version Section 4.21.

E. Effective Date

The CPSIA provides a timetable for the Commission to issue a notice of proposed rulemaking (within 120 days of receiving notification of a revised ANSI/SVIA standard) and to issue a final rule (within 180 days of publication of the proposed rule), but it does not establish requirements for effective dates. When the Commission adopted the 2010 revision to the ANSI/SVIA standard, it provided for an effective date of 60 days from publication of the final rule. That date was revised based on comments from several ATV companies in order to allow them time to update their certification labels. When the Commission adopted the 2017 revision to the ANSI/SVIA standard, it provided for an effective date of January 1, 2019, approximately 10 months after publication of the final rule, based on SVIA's comments about the time needed for manufacturers to make the required changes.

CPSC staff assesses that many ATVs may already meet the new requirements in ANSI/SVIA 1-2023, and the changes from the 2017 to the 2023 voluntary standard will not require significant vehicle design or testing. Once SVIA notifies the Commission of a new version of the SVIA standard, CPSC is required to issue an NPR within 120 days and then issue a final rule 180 days after the NPR publication (300 days total). Because the projected date for issuance of a final rule is early in calendar year 2024, setting the effective date 180 days after publication of the final rule, as the Commission did with the 2017 standard, would result in an effective date in July 2024, with the specific date dependent on the date the final rule is issued. However, in order to set a date certain that will facilitate industry planning, as well as to align the effective date more closely with the timing of the ATV industry's typical transition from one model year to the next, the Commission proposes an effective date of September 1, 2024. With this effective date, ATV manufacturers will have approximately 17 months to comply with the new hot surface and fuel system requirements. The Commission preliminarily concludes that the proposed effective date is reasonable, feasible, and adequate to protect consumer safety for the following reasons:

• Since all ATVs' gasoline powered engines and associated components sold in the U.S. are regulated by the U.S. EPA for Exhaust and Evaporative emissions (40 CFR 1051.515(d)—Fuel Tank Permeation Testing), those ATVs will be exempt from having to conduct testing per Section 13.5 (Fuel Tank Cyclic Pressure Integrity Test) of ANSI/SVIA-1-2023. Where hazards associated with fuel tank cyclic pressure have already been addressed, there will be no negative effect on safety by providing this effective date rather than a shorter time period to comply.

• Depending on a firm's ATV manufacturing schedule cycle during the calendar year, any design changes and associated testing to comply with the new standard will take place sometime within the 17-month period, with the understanding that firms will not produce ATVs all year round. The 17-month period from the issuance of SVIA-1-2023 to the proposed effective date will allow for resolution of supply chain issues, quality control issues, and any other issues that may arise.

• The proposed timeline here is similar to the timeline for the SVIA-1-2017 standard update. In June 2017, SVIA notified the Commission of the 2017 edition of the SVIA-1 standard. The final rule established an effective date of January 1, 2019, which was 18 months from start to finish (comparable to the recommended 17-month period proposed here).

For these reasons, the Commission proposes an effective date that is more clearly defined than the effective date for SVIA-1-2023 and that allows sufficient time for manufacturers to prepare to comply with the new standard while at the same time protecting consumer safety by requiring compliance within a reasonable time.

III. Initial Regulatory Flexibility Act Analysis

The Regulatory Flexibility Act (RFA) requires that agencies review a proposed rule for the rule's potential economic impact on small entities, including small businesses. Section 603 of the RFA generally requires that agencies prepare an initial regulatory flexibility analysis (IRFA) and make the analysis available to the public for comment when the agency publishes an NPR. 5 U.S.C. 603. Section 605 of the RFA provides that an IRFA is not required if the agency certifies that the rule, if promulgated, will not have a significant economic impact on a substantial number of small entities.

The IRFA, or a summary of it, must be published in the Federal Register with the proposed rule. Under Section 603(b) of the RFA, each IRFA must include:

(1) a description of why action by the agency is being considered;

(2) a succinct statement of the objectives of, and legal basis for, the proposed rule;

(3) a description and, where feasible, an estimate of the number of small entities to which the proposed rule will apply;

(4) a description of the projected reporting, recordkeeping, and other compliance requirements of the proposed rule, including an estimate of the classes of small entities which will be subject to the requirement and the type of professional skills necessary for preparation of the report or record; and

(5) an identification, to the extent practicable, of all relevant Federal rules which may duplicate, overlap, or conflict with the proposed rule.

The IRFA must also describe any significant alternatives to the proposed rule that would accomplish the stated objectives and that minimize any significant economic impact on small entities. Staff's initial regulatory flexibility analysis is provided in Tab B of Staff's NPR Briefing Package.

A. Reason for Agency Action

The intent of this rulemaking is to reduce deaths and injuries resulting from fire and burn hazards associated with ATVs. The Commission is considering this rule to amend the current mandatory standard to reference ANSI/SVIA 1-2023 because we preliminarily conclude that compliance with ANSI/SVIA 1-2023 would reduce fatal and non-fatal injuries associated with ATVs.

B. Objectives and Legal Basis of the Rule

The Commission proposes this rule to reduce the risk of fatal and non-fatal injuries associated with ATVs. On March 24, 2023, ANSI published the latest revision of the American National Standard for Four-Wheel All-Terrain Vehicles, ANSI/SVIA 1-2023. This rule is promulgated as required by, and under the authority of, CPSA section 42(b).

C. Small Entities to Which the Rule Will Apply

The proposed rule would directly affect manufacturers and importers of ATVs that are responsible for ensuring that the ATVs distributed in the United States meet the Commission's mandatory rule based on the ANSI/SVIA-1 standard. If promulgated as a final rule, it would not have any direct impact on other businesses, such as ATV dealers (unless they are also importers), or other small entities, including small governmental jurisdictions or other organizations.

To be distributed in the United States, ATVs must be covered by “ATV Action Plans,” which, among other things, describe the actions that manufacturers or importers will undertake to ensure that consumers are offered safety training and to monitor that ATVs intended for adult riders are not sold by ATV dealers for the use of children. As of April 2023, there were 38 ATV manufacturers or importers with ATV Action Plans registered with the CPSC.³ Of the 38 firms with ATV Action Plans, staff has assessed that 14 are either large domestic manufacturers or subsidiaries of foreign manufacturers. In addition, staff has assessed that no domestic manufacturers of ATVs meet the U.S. Small Business Association (SBA) criteria to be considered small businesses.

³ The ATV Action Plan Requirement is found in section 42 of the CPSA, 15 U.S.C. 2089. A list of firms with active ATV Action Plans can be found at ATV Action Plans | CPSC.gov.

Staff believes that the remaining 24 companies are likely importers, although in several cases there was insufficient information to make this determination. Of these 24 likely importers, staff has identified 14 firms that meet SBA criteria to be considered small businesses. For the remaining 10 firms, there was insufficient information to make a size determination.

D. Compliance, Reporting, and Recordkeeping Requirements of the Proposed Rule

The CPSA requires manufacturers (a term which includes importers) to certify that their products comply with applicable CPSC standards and regulations. 15 U.S.C. 2052(a)(11) & 2063(a)(1). The proposed rule amends the performance requirements and test procedures that suppliers must meet in order to sell ATVs in the United States. CPSC staff has examined differences between ANSI/SVIA 1-2017 and ANSI/SVIA 1-2023. A detailed list and discussion of these differences appear Staff's NPR Briefing Package. In addition to making minor modifications to Sections 1 through 11, ANSI/SVIA 1-2023 adds Section 12 (Burn Hazards) and Section 13 (Fuel Systems Requirements). Manufacturers and/or importers of models that do not currently comply with ANSI/SVIA 1-2023 will incur costs for testing, and possibly for parts and vehicle redesign.

In accordance with Section 14 of the CPSA, manufacturers would have to issue a GCC for each ATV model, certifying that the model complies with the proposed rule. According to Section 14 of the CPSA, GCCs must be based on a test of each product, or a reasonable testing program; and GCCs must be provided to all distributors or retailers of the product. The manufacturer would have to comply with 16 CFR part 1110 concerning the content of the GCC, retention of the associated records, and any other applicable requirement.

1. Impact on Small Manufacturers

Because modifications in Sections 1 through 11 consist primarily of editorial updates and clarifications to the existing voluntary standards, staff assesses that manufacturer costs to comply with these modifications are insignificant.

Manufacturers will incur testing costs to comply with Section 12 of the revised standard, which sets forth a one-time design qualification that requires the identification and testing of ATV surfaces that come into continuous, intermittent, momentary, and incidental contact with the vehicle occupant and passengers. Those manufacturers whose models do not meet the performance requirement will incur costs associated with model reconfiguration or redesign.

Manufacturers will also incur testing costs to comply with Section 13 of the revised standard which contains several one-time design qualifications and production part inspection tests related to ATV fuel systems.

For ATVs that already meet the performance requirements of Section 12 and 13, the cost to manufacturers is limited to the cost of testing. The Commission estimates that one-time design qualification inspection tests would cost approximately $12,096 per model. To comply with new Sections 13.3 (Fuel Tank Immersion Leak Test) and 13.4 (Fuel Filter and Shut-off Valve Immersion Leak Test), manufacturers will incur costs associated with testing each production part; CPSC estimates that the cost of production part testing is approximately $20.00 per vehicle.

Manufacturers whose ATV models do not meet the performance requirements of Sections 12 and 13 may incur additional costs associated with sourcing compliant—likely more expensive—parts that were previously tested by the parts manufacturer/supplier. These costs are expected to be approximately $20.00 per vehicle, some of which may be borne by the parts supplier. ATV models which do not meet Sections 12, 13.8 (Fuel Tank Production Envelope Analysis), or 13.9 (Fuel Line Integrity) requirements may require reconfiguration or redesign, which CPSC estimates would cost approximately $70,000 per model.

The Commission generally assesses a draft proposed rule to have a significant adverse economic impact if a firm's costs to comply exceed 1 percent of the firm's annual sales revenue. Because, as noted above, none of the 14 identified ATV manufacturers meet the SBA criteria to be considered a small business, CPSC preliminarily assesses that the draft proposed rule requiring compliance with ANSI/SVIA 1-2023 will not have a significant economic impact on any small ATV manufacturers, since none was identified. Staff seeks information on any other ATV manufacturers that may meet the SBA criteria to be considered small businesses.

2. Impact on Small Importers

Foreign manufacturers whose models do not meet the ANSI/SVIA 1-2023 performance requirements may choose to exit the U.S. ATV market. An importer whose foreign manufacturer exited the market, and was unable to procure an alternative source, would likely suffer a significant, adverse economic impact. However, given that ATV sales volume has been stable over the last 5 years, and grew by approximately 5 percent in 2020 (the last year for which CPSC has data), it is unlikely that foreign ATV manufacturers will exit the market. Therefore, CPSC preliminarily concludes that the draft proposed rule will not have a significant, adverse economic impact on ATV importers.

If a foreign manufacturer chooses not to conduct the required testing and/or provide the documentation necessary to support the issuance a GCC, importers of that manufacturer's products may choose to conduct and document compliance testing, incurring the associated costs. For importers whose costs exceed 1 percent of the firm's annual ATV revenues, the effect would be considered significant. Of the 14 small importers identified by staff, only 7 could be found in the 2020 ATV market sales data.⁴ Staff estimates that 4 of these 7 small importers would face a significant, adverse economic impact as a result of the proposed rule. However, as noted above, CPSC considers this scenario unlikely.

⁴ Source: Power Products Marketing, Prairie Eden, MN, 2021.

3. Alternatives to the Draft Proposed Rule

An effective date later than September 1, 2024, could reduce manufacturers' costs of compliance and/or allow manufacturers to spread those costs over a longer period of time. However, an effective date of September 1, 2024 allows manufacturers approximately 17 months from the publication of ANSI/SVIA 1-2023 to comply with its requirements, which the Commission preliminarily considers reasonable, feasible, and adequate as explained above.

For these reasons, any cost savings that might accrue to manufacturers if a later effective date were adopted are likely to be insignificant. Delaying implementation of the rule would allow continued manufacture and importation of non-compliant models for a longer period of time, expose a greater number of consumers to ATV fire and burn hazards, and increase associated societal costs. Therefore, the Commission is not proposing this alternative.

The Commission preliminarily concludes that the draft proposed rule will not have a significant, negative economic impact on a substantial number of small entities and requests comments with data supporting or refuting whether the Commission could certify to that effect.

IV. The Proposed Rule

The proposed rule would revise 16 CFR 1420.1 and 1420.3. Consistent with current requirements, the revised language states that new assembled or unassembled ATVs manufactured before September 1, 2024, must comply with ANSI/SVIA 1-2017. Any new assembled or unassembled ATVs manufactured on or after September 1, 2024 must comply with ANSI/SVIA 1-2023. The revision also removes extraneous references to past effective dates.

V. Paperwork Reduction Act

This proposed rule contains information collection requirements that are subject to public comment and review by the Office of Management and Budget (OMB) under the Paperwork Reduction Act of 1995 (44 U.S.C. 3501-3521). In this document, pursuant to 44 U.S.C. 3507(a)(1)(D), we set forth—

• a title for the collection of information;

• a summary of the collection of information;

• a brief description of the need for the information and the proposed use of the information;

• a description of the likely respondents and proposed frequency of response to the collection of information;

• an estimate of the burden that shall result from the collection of information; and

• notice that comments may be submitted to the OMB.

Title: Notice of Proposed Rulemaking (NPR) to Amend the All-Terrain Vehicle (ATV) Standard.

Summary and Description: The proposed rule amends the ATV standard to mandate industry compliance with ANSI/SVIA 1-2023, American National Standard for Four Wheel All-Terrain Vehicles. The proposed rule would require ATVs to comply with ANSI/SVIA 1-2023, including certification testing in support of GCCs required by Section 14 of the Consumer Product Safety Act, 15 U.S.C. 2063.⁵ GCCs must comply with 16 CFR part 1110 concerning the content of the GCC, retention of the associated records, and any other applicable requirement. ANSI/SVIA 1-2023 Sections 4. Vehicle (ATV) Configuration and Equipment, 5. Maximum Speed Capability, 7. Service Brake Performance, 8. Parking, 9. Pitch Stability, 11. Sound Level Limits, 12. Hot Surfaces, and 13. Fuel Systems Requirements contain certification testing requirements. These recordkeeping requirements, as well as the preparation of the GCC itself, fall within the definition of “collection of information,” as defined in 44 U.S.C. 3502(3). PRA requirements such as labels, hang tags, and instruction manuals, which are unchanged from the previous version of the standard, SVIA 1-2017, are not included in this analysis.

⁵ Section 14(a)(3)(A) of the CPSA states that the third-party testing requirement applies to any children's product manufactured more than 90 days after the Commission has established and published a “notice of requirements” for the accreditation of third-party conformity assessment bodies to assess conformity with a children's product safety rule.

Description of Respondents: Entities which manufacture or import ATVs.

Estimated Burden: We estimate the total burden of this collection of information is 441 hours and $16,229. Table 1, below, summarizes our estimation of annual reporting burden hours and cost.

Table 1—Estimated Annual Reporting Burden
Burden type | Number of respondents | Frequency of responses | Total annual responses | Hours per response | Total burden hours | Annual cost
Labor Burden
GCC Preparation | 38 | 1 | 38 | 1.5 | 57 | $2,098
One-Time Design Qualification Testing | 25 | 1.9 | 48 | 8 | 384 | 14,131
Total Burden |  |  |  |  | 441 | 16,229

Comments: In compliance with the Paperwork Reduction Act of 1995 (44 U.S.C. 3507(d)), CPSC has submitted the information collection requirements of this proposed rule to the OMB for review. Interested persons are requested to submit comments regarding information collection by September 25, 2023 to the Office of Information and egulatory Affairs, OMB (see the ADDRESSES section at the beginning of this document).

Pursuant to 44 U.S.C. 3506(c)(2)(A), we invite comments on:

• Whether the collection of information is necessary for the proper performance of the CPSC's functions, including whether the information will have practical utility;

• The accuracy of the CPSC's estimate of the burden of the proposed collection of information, including the validity of the methodology and assumptions used;

• Ways to enhance the quality, utility, and clarity of the information to be collected;

• Ways to reduce the burden of the collection of information on respondents, including the use of automated collection techniques, when appropriate, and other forms of information technology; and

• The estimated burden hours associated with producing the GCC and the certification testing required to support the GCC.

A. GCC Preparation

Section 14 of the Consumer Product Safety Act requires manufacturers and importers of ATVs to prepare GCCs. Based on current ATV action plans filed with the CPSC, there are 38 entities that supply, or intend to supply ATVs to the U.S. market. CPSC staff found evidence of ATV sales activity, in the form of actual sales or advertisement for sale, for only 32 of the 38 entities. Nevertheless, taking a conservative approach, CPSC staff assumed that all 38 entities are currently supplying ATVs to the U.S. market and used this number to calculate the burden hours and annual cost associated with GCCs. ATV manufacturers typically produce one GCC that covers all the models of a model year, which implies the number of PRA responses is one per entity, per year. CPSC conservatively estimates the time required to produce this GCC is about 1.5 hours per year (although in most cases the actual time required will likely be significantly lower). Therefore, the estimated burden associated with GCCs is 57 hours (38 entities × 1 GCC per year × 1.5 hours per GCC = 57 hours). CPSC staff multiplied the estimated number of burden hours by $36.80,⁶ the total hourly compensation for sales and office workers in goods-producing private industries, to generate the estimated annual cost to industry associated with GCCs. Therefore, the estimated annual cost to industry associated with preparation of the GCCs is $2,097.60 ($36.80 per hour × 57 hours = $2,097.60).

⁶ U.S. Bureau of Labor Statistics, “Table 4. Employer Costs for Employee Compensation for private industry workers by occupational and industry group,” updated March 17, 2023, Table 4. Private industry workers by occupational and industry group—2022 Q04 Results (bls.gov).

B. Recordkeeping Supporting GCC Preparation

In the event a foreign manufacturer chooses not to conduct required certification testing and/or provide documentation to support preparation of the GCC, its importer could choose to conduct its own certification testing. However, CPSC considers this scenario unlikely, and for several of the importers, cost prohibitive. Therefore, the Commission assumes entities conducting certification testing and associated recordkeeping are limited to ATV manufacturers. Based on 2020 sales data, there were 25 known U.S. and foreign manufacturers supplying as many as 239 new and old ATV models and 420,730 ATVs to the U.S. market.⁷

⁷ Source: Power Products Marketing, Prairie Eden, MN, 2021.

CPSC estimates the average life cycle of an ATV model is approximately 5 years, which implies each manufacturer will conduct one-time design qualification testing on approximately 1.6 models per year (239 models ÷ 25 entities ÷ 5 years ≉ 1.9 models per entity per year). CPSC staff estimates the time required to create and maintain certification records to be approximately 8 person hours per model.⁸ Therefore, the estimated labor burden associated with certification testing recordkeeping is 384 person hours (25 entities × 1.9 ATV models per year × 8 person hours per model = 384 person hours). As above, staff multiplied the estimated number of burden hours by $36.80, the total hourly compensation for sales and office workers in goods-producing private industries. The estimated annual cost to industry associated with certification testing recordkeeping is $14,131 ($36.80 per person hour × 384 person hours = $14,131).

⁸ This estimate includes recordkeeping hours associated with individual parts testing required by ANSI/SVIA 1-2023, Sections 13.3 (Fuel Tank Immersion Leak Test) and 13.4 (Fuel Filter and Shut-off Valve Immersion Leak Test, allocated per model, as well as recordkeeping hours associated with one-time design qualification testing.

C. Summary of Burden Hours and Cost

Based on this analysis, the proposed rule for ATVs would impose an annual burden to industry of approximately 441 hours per year (57 for preparation of the GCC and 384 hours for recordkeeping associated with the certification tests upon which the GCCs are based). The estimated annual cost is approximately $16,229 ($2,098 and $14,131 for GCC preparation and certification testing recordkeeping, respectively).

The above estimates are a conservative estimate of the average annual burden to ATV entities. The proposed rule requires all ATVs manufactured on or after September 1, 2024, to comply with ANSI/SVIA 1-2023. Therefore, in the first year following promulgation of the rule, existing entities may be required to redesign and test more than the estimated average 48 models per year and incur higher costs than the estimates in this PRA analysis. In subsequent years, costs could be less, as fewer numbers of ATV models will require design updates. To the extent that the ATV industry already complies, or substantially complies, with the ANSI/SVIA 1-2023 standard, these figures may over-estimate the actual burden.

VI. Environmental Considerations

The Commission's regulations provide a categorical exemption for the Commission's rules from any requirement to prepare an environmental assessment or an environmental impact statement as they “have little or no potential for affecting the human environment.” 16 CFR 1021.5(c)(1). This proposed amendment falls within the categorical exemption.

VII. Incorporation by Reference

The Commission proposes to incorporate by reference those provisions of ANSI/SVIA 1-2023 that it has concluded are related to the safe operation of ATVs, which encompass all provisions other than Section 4.21 concerning the provision of paper user manuals. The Office of the Federal Register (OFR) has regulations concerning incorporation by reference. 1 CFR part 51. For a proposed rule, agencies must discuss in the preamble to the NPR ways that the materials the agency proposes to incorporate by reference are reasonably available to interested persons or how the agency worked to make the materials reasonably available. In addition, the preamble to the proposed rule must summarize the material. 1 CFR 51.5(a).

In accordance with the OFR's requirements, section II of this preamble summarizes the provisions of ANSI/SVIA 1-2023 that the Commission proposes to incorporate by reference. ANSI/SVIA 1-2023 is copyrighted. Interested persons may purchase a copy of ANSI/SVIA 1-2023 from Specialty Vehicle Institute of America, 2 Jenner, Suite 150, Irvine, CA 92618-3806; telephone: 949-727-3727 ext. 3023; www.svia.org. In addition, a read-only copy of the standard is available for viewing on the SVIA website at https://svia.org/ansi-svia-1-2023/. You may also inspect a copy at the Office of the Secretary, U.S. Consumer Product Safety Commission, 4330 East West Highway, Bethesda, MD 20814, telephone: (301) 504-7479, email: cpsc-os@cpsc.gov.

VIII. Preemption

Section 26(a) of the CPSA, 15 U.S.C. 2075(a), provides that when a consumer product safety standard is in effect and applies to a product, no state or political subdivision of a state may either establish or continue in effect a standard or regulation that prescribes requirements for the performance, composition, contents, design, finish, construction, packaging, or labeling of such product dealing with the same risk of injury unless the state requirement is identical to the federal standard. Section 26(c) of the CPSA also provides that states or political subdivisions of states may apply to the Commission for an exemption from this preemption under certain circumstances. Section 42 of the CPSA refers to the rules to be issued under that section as “consumer product safety standards.” Therefore, the preemption provision of section 26(a) of the CPSA would apply to this proposed rule.

IX. Notice of Requirements

The CPSA establishes certain requirements for product certification and testing. Certification of children's products subject to a children's product safety rule must be based on testing conducted by a CPSC-accepted third-party conformity assessment body. 15 U.S.C. 2063(a)(2). The Commission is required to publish a notice of requirements (NOR) for the accreditation of third-party conformity assessment bodies to assess conformity with a children's product safety rule to which a children's product is subject. Id. 2063(a)(3). On August 27, 2010, the Commission published an NOR for accreditation of third-party conformity assessment bodies for testing ATVs designed or intended primarily for children 12 years of age or younger. 75 FR 52616. Because the revisions to the 2017 edition of the ANSI/SVIA standard would not substantially alter third-party conformance testing requirements for ATVs designed or intended primarily for children 12 years of age or younger, the current NOR for third-party testing of youth ATVs will remain unchanged. Thus, the Commission considers the existing accreditations that the Commission has accepted for testing to the 2017 ATV standard would also cover testing of children's products to the revised ATV standard.

X. Request for Comments

This NPR begins a rulemaking proceeding under section 42 of the CPSA to amend the Commission's mandatory ATV standard to reference the 2023 edition of the ANSI/SVIA standard. We invite all interested persons to submit comments on any aspect of this proposal, including whether any of the changes to the standard (summarized in Tab A of the Staff's NPR Briefing Package) are substantive changes and whether they improve or do not improve the safety of ATVs. In particular, as noted previously, we invite comment as to the standard's proposed change to format in which an owner's manual must be provided and as to the proposed effective date. We also invite comments on the estimated burden of the recordkeeping associated with issuing a GCC for ATVs as required by 16 CFR part 1110, discussed in Section VI, above. In addition, we request comments on the effect on safety of the removal of the 10 PSI maximum recommended tire pressure. In particular, we invite comments on the anticipated effect on safety if ATV tires exceed 10 psi. Comments should be submitted in accordance with the instructions in the ADDRESSES section at the beginning of this notice.

List of Subjects in 16 CFR Parts 1420

Consumer protection, Imports, Incorporation by reference, Infants and children, Information, Labeling, Law enforcement, Recreation and recreation areas, Reporting and recordkeeping requirements, Safety.

For the reasons stated in the preamble, the Commission proposes to amend Title 16 of the Code of Federal Regulations, as follows:

PART 1420—REQUIREMENTS FOR ALL-TERRAIN VEHICLES

1. The authority citation for part 1420 is changed to read as follows:

Authority: 15 U.S.C. 2089.

2. Revise § 1420.1 to read as follows:

§ 1420.1 Scope and application.

This part 1420, a consumer product safety standard, prescribes requirements for all terrain vehicles.

3. Revise § 1420.3 to read as follows:

§ 1420.3 Requirements for four-wheel ATVs.

Each new assembled or unassembled ATV manufactured before September 1, 2024, shall comply with all applicable provisions of the American National Standard for Four-Wheel All-Terrain Vehicles (ANSI/SVIA 1-2017), approved on June 8, 2017. Each new assembled or unassembled ATV manufactured on or after September 1, 2024, shall comply with all applicable provisions of the American National Standard for Four-Wheel All-Terrain Vehicles (ANSI/SVIA 1-2023), approved on March 21, 2023 with the exception of Section 4.21 Owner's Manual, as to which it shall continue to comply with the ANSI/SVIA 1-2017 standard. The Director of the Federal Register approves this incorporation by reference in accordance with 5 U.S.C. 552(a) and 1 CFR part 51. You may obtain a copy of these standards from Specialty Vehicle Institute of America, 2 Jenner, Suite 150, Irvine, CA 92618-3806; telephone: 949-727-3727 ext. 3023; www.svia.org. In addition, a read-only copy of the 2023 standard is available for viewing on the SVIA website at https://svia.org/ansi-svia-1-2023/. This material is available for inspection at the Consumer Product Safety Commission and the National Archives and Records Administration (NARA). Contact Office of the Secretary, U.S. Consumer Product Safety Commission, Room 820, 4330 East West Highway, Bethesda, MD 20814, telephone: (301) 504-7479. For information on the availability of this material at NARA, visit www.archives.gov/federal-register/cfr/ibr-locations.html or email: fr.inspection@nara.gov.

Alberta E. Mills,
Secretary, Consumer Product Safety Commission.

[FR Doc. 2023-15478 Filed 7-26-23; 8:45 am]

BILLING CODE 6355-01-P